FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 27, 2002.

A. Federal Reserve Bank of Atlanta (Sue Costello, Vice President) 1000 Peachtree Street, N.E., Atlanta, Georgia 30309-4470:

1. Joe B. Bruce, Bruce Investments, LP, both of Maryville Tennessee; Leann Hicks, Louisville, Tennessee; Thelma Carter, Alcoa, Tennessee; Chadwick T. Hicks, Louisville, Tennessee; Beth Ann Hicks, Louisville, Tennessee; and Mary Joe Willocks, Alcoa, Tennessee; to retain voting shares of Twin Cities Financial Services, Inc., and thereby indirectly retain voting shares of Citizens Bank of Blount County, Maryville, Tennessee.

B. Federal Reserve Bank of San Francisco (Maria Villanueva, Consumer Regulation Group) 101 Market Street, San Francisco, California 94105-1579:

1. James O. Pohlad, and William M. Pohlad, Los Angeles, California; to acquire additional voting shares of National Mercantile Bancorp, Los Angeles, California, and thereby indirectly acquire additional voting shares of Mercantile National Bank, Los Angeles, California, and South Bay Bank, National Association, Torrance, California.

1. Nagy Family Limited Partnership I, Ferenc Nagy and Susanna Nagy, general partners, all of Seattle, Washington, to acquire voting shares of Viking Financial Services Corporation, Seattle, Washington, and thereby indirectly acquire voting shares of Viking Community Bank, Seattle, Washington.

Board of Governors of the Federal Reserve System, September 9, 2002.
Robert deV. Frierson,
Deputy Secretary of the Board.

[FR Doc. 02-23279 Filed 9-12-02; 8:45 am]

BILLING CODE 6210-01-S